COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Date added to the Procurement List: March 18, 2018.

ADDRESSES: Committee for Purchase From People Who Are Blind or Severely Disabled, 1401 S Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 12/22/2017 (82 FR 245) and 1/12/2018 (83 FR 9), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s): 6850-01-474-2317—Solvent, Dry Cleaning, Degreasing, 5 Gal

Mandatory for: 100% of the requirement of the Department of Defense

Mandatory Source of Supply: The Lighthouse for the Blind, St. Louis, MO

Contracting Activity: Defense Logistics Agency Aviation.

NSN(s)—Product Name(s):

8410-01-449-5284—Skirt, Service Dress, Air Force, Women's, Blue, 6WR

8410-00-0SK-T523—Skirt, Service Dress, Air Force, Women's, Blue, Special Measurement

8410-01-449-5288—Skirt, Service Dress, Air Force, Women's, Blue, 8WL

8410-01-449-5297—Skirt, Service Dress, Air Force, Women's, Blue, 4WR

8410-01-441-7678—Skirt, Service Dress, Air Force, Women's, Blue, 20WR

8410-01-441-7681—Skirt, Service Dress, Air Force, Women's, Blue, 22WR

8410-01-441-7240—Skirt, Service Dress, Air Force, Women's, Blue, 18WR

8410-01-441-7243—Skirt, Service Dress, Air Force, Women's, Blue, 18WL

8410-01-441-6741—Skirt, Service Dress, Air Force, Women's, Blue, 14WS

8410-01-441-6750—Skirt, Service Dress, Air Force, Women's, Blue, 14WL

8410-01-441-6759—Skirt, Service Dress, Air Force, Women's, Blue, 16MS

8410-01-441-6695—Skirt, Service Dress, Air Force, Women's, Blue, 12WS

8410-01-441-6701—Skirt, Service Dress, Air Force, Women's, Blue, 12WL

8410-01-441-6704—Skirt, Service Dress, Air Force, Women's, Blue, 14MS

8410-01-441-6644—Skirt, Service Dress, Air Force, Women's, Blue, 12ML

8410-01-441-6327—Skirt, Service Dress, Air Force, Women's, Blue, 12MS

8410-01-441-5747—Skirt, Service Dress, Air Force, Women's, Blue, 16WL

8410-01-441-4602—Skirt, Service Dress, Air Force, Women's, Blue, 2MS

8410-01-441-5672—Skirt, Service Dress, Air Force, Women's, Blue, 16WS

8410-01-449-5286—Skirt, Service Dress, Air Force, Women's, Blue, 8WR

8410-01-441-5742—Skirt, Service Dress, Air Force, Women's, Blue, 16WR

8410-01-441-6744—Skirt, Service Dress, Air Force, Women's, Blue, 14WR

Mandatory for: 100% of the requirement of the U.S. Air Force

Mandatory Source of Supply: North Bay Rehabilitation Services, Inc., Rohnert Park, CA

Contracting Activity: Defense Logistics Agency Troop Support

Amy B. Jensen,
Director, Business Operations.

[FR Doc. 2018-03281 Filed 2-15-18; 8:45 am]

BILLING CODE 6353-01-P